DEPARTMENT OF DEFENSE

Department of the Navy

Notice of Availability of Final Supplemental Programmatic Environmental Assessment (SPEA) and Finding of No Significant Impact (FONSI) for the 2006 Supplement to the 2002 Rim of the Pacific Exercises Programmatic Environmental Assessment, Hawaii

AGENCY: Department of the Navy, DOD.

ACTION: Notice.

SUMMARY: Pursuant to section 102(2)(C) of the National Environmental Policy Act (NEPA) of 1969 and the Council on Environmental Quality Regulations (40 CFR parts 1500-1508) implementing the procedural provisions of NEPA, the United States Department of the Navy (Navy) gives notice that a Final SPEA has been prepared and an Environmental Impact Statement is not required for implementation of the 2006 Rim of the Pacific (RIMPAC) exercises.

FOR FURTHER INFORMATION CONTACT: Mr. Conrad Erkelens at 808-471-5455 or write to Commander, U.S. Pacific Fleet (N465), 251 Makalapa Drive, Pearl Harbor, HI 96860.

SUPPLEMENTARY INFORMATION: RIMPAC has been conducted at various locations throughout the State of Hawaii and surrounding ocean areas biennially for the last 32 years. The purpose of RIMPAC is to implement a selected set of exercises that are combined into a multinational, sea control/power projection Fleet training exercise in a multi-threat environment. RIMPAC exercises enhance the abilities of a multinational Fleet force to communicate and operate in simulated hostile scenarios. In 2002, a Programmatic EA (PEA) was prepared in support of the RIMPAC exercises. The PEA identified the proposed action as the set of exercises and locations that would be used for RIMPAC activities for the foreseeable future. It identified the maximum usage of ongoing training assets and exercises that could be conducted within a given RIMPAC event and evaluated the impacts on the environment within those bounds. The FONSI for the RIMPAC PEA, signed June 11, 2002, concluded that as long as future RIMPAC exercises did not exceed the evaluated set of activities, the proposed action could be implemented without supplemental NEPA documentation. Thus, the scope of each future RIMPAC exercise has been evaluated for consistency with the 2002 RIMPAC PEA and its FONSI.

The 2006 SPEA was prepared to evaluate new training event locations and to review all proposed RIMPAC 2006 activities to the analysis in the 2002 RIMPAC PEA and a 2004 SPEA to ensure all proposed activities are addressed. The review included an evaluation of: Training levels (personnel and equipment) and types of equipment; facilities and procedures for implementing RIMPAC at each installation or range; and changes in the affected environment or environmental sensitivities. In addition, the 2006 SPEA also includes a description of the Antisubmarine Warfare (ASW) operations, and the ASW acoustic effects modeling completed for RIMPAC 2006.

The only change being proposed is the location for conducting the Non-Combatant Evacuation Operation (NEO) at the Pacific Missile Range Facility (PMRF) and Niihau. No new training events are proposed. The NEO training event locations at PMRF and Niihau, when added to the proposed action assessed in the RIMPAC PEA and 2004 Supplement, form the proposed action for the purpose of the 2006 SPEA.

Accordingly, the analysis conducted in the SPEA focused on the following resources: Terrestrial and marine environments and cultural resources. Specifically, the 2006 SPEA includes analysis related to mid-frequency active sonar based on application of emergent science. Long-term studies of the quantification and effects of exposure of marine mammal species to acoustic emissions are progressing, and Navy, in coordination with the National Marine Fisheries Service is incorporating the results into this SPEA. The ASW training events being analyzed are not new and have taken place with no significant changes over the previous 19 RIMPAC exercises. However, new scientific information has led to the ability to quantitatively identify harassment levels, as defined in the Marine Mammal Protection Act, through the use of newly derived threshold criteria metrics. Additionally, scientific advances in effects-analysis modeling of sound on marine mammals have provided Navy the ability to predict cumulative effects on marine species due to a proposed action. Due to these advances in scientific information, the 2006 SPEA provides an effects-analysis on marine mammals that may be affected by the RIMPAC training events that use hull-mounted mid-frequency active sonar.

The Final SPEA and FONSI may be obtained by written request from: Commander, U.S. Pacific Fleet (N465), 251 Makalapa Drive, Pearl Harbor, HI 96860. For additional information, write to the above address or call Mr. Conrad Erkelens at 808-471-5455. The Final SPEA and FONSI are also available for public review at the project Web site at http://www.smdcen.us/rimpac06/. In addition, the documents may be reviewed at the following locations:

Wailuku Public Library, 251 High Street, Wailuku, Hawaii 96793, (Maui).

Hilo Public Library, 300 Waianaenue Avenue, Hilo, Hawaii 96720, Hawaii).

Hawaii State Library, Hawaii and Pacific Section Document Unit, 478 South King Street, Honolulu, Hawaii 96813, (Oahu).

Lihue Public Library, 4344 Hardy Street, Lihue, Hawaii 96766, (Kauai).

Dated: May 26, 2006.
M. A. Harvison,
LT, JAGC, USN, Federal Register Liaison Officer.

[FR Doc. E6-8463 Filed 5-31-06; 8:45 am]

BILLING CODE 3810-FF-P